DEPARTMENT OF ENERGY

Federal Energy Regulatory Commission

[Docket Nos. AD20-24-000, ER02-2001-000]

Electric Quarterly Report Users Group Meeting; Electric Quarterly Reports; Notice of Electric Quarterly Report Users Group Meeting

Take notice ¹ that on September 23, 2020, staff of the Federal Energy Regulatory Commission (Commission) will convene an Electric Quarterly Report (EQR) User Group meeting that will be webcast electronically. A supplemental notice will be issued prior to the meeting with further details regarding the agenda, meeting registration information, and electronic log in information.

¹ 18 CFR 2.1 (2019).

This meeting provides a forum for dialogue between Commission staff and EQR users to discuss potential improvements to the EQR program and the EQR filing process. Prior to the meeting, staff would like input on discussion topics. Individuals may suggest agenda topics for consideration by emailing EQRUsersGroup@ferc.gov.

Please note that matters pending before the Commission and subject to ex parte limitations cannot be discussed at this meeting.

Commission conferences are accessible under section 508 of the Rehabilitation Act of 1973. For accessibility accommodations, please send an email to accessibility@ferc.gov or call toll free 1-866-208-3372 (voice) or 202-502-8659 (TTY), or send a FAX to 202-208-2106 with the required accommodations.

For more information about the EQR Users Group meeting, please contact Jeff Sanders of the Commission's Office of Enforcement at (202) 502-6455, or send an email to EQRUsersGroup@ferc.gov. Additional information will also be provided on the EQR webpage.

Dated: August 3, 2020.
Kimberly D. Bose,
Secretary.

[FR Doc. 2020-17299 Filed 8-6-20; 8:45 am]

BILLING CODE 6717-01-P